DEPARTMENT OF HEALTH AND HUMAN SERVICES

Centers for Medicare & Medicaid Services

[Document Identifier: CMS-10398 #45]

Medicaid and Children's Health Insurance Program (CHIP) Generic Information Collection Activities: Proposed Collection; Comment Request

AGENCY: Centers for Medicare & Medicaid Services, Health and Human Services (HHS).

ACTION: Notice.

SUMMARY: On May 28, 2010, the Office of Management and Budget (OMB) issued Paperwork Reduction Act (PRA) guidance related to the “generic” clearance process. Generally, this is an expedited process by which agencies may obtain OMB's approval of collection of information requests that are “usually voluntary, low-burden, and uncontroversial collections,” do not raise any substantive or policy issues, and do not require policy or methodological review. The process requires the submission of an overarching plan that defines the scope of the individual collections that would fall under its umbrella. On October 23, 2011, OMB approved our initial request to use the generic clearance process under control number 0938-1148 (CMS-10398). It was last approved on April 26, 2021, via the standard PRA process which included the publication of 60- and 30-day Federal Register notices. The scope of the April 2021 umbrella accounts for Medicaid and CHIP State plan amendments, waivers, demonstrations, and reporting. This Federal Register notice seeks public comment on one or more of our collection of information requests that we believe are generic and fall within the scope of the umbrella. Interested persons are invited to submit comments regarding our burden estimates or any other aspect of this collection of information, including: the necessity and utility of the proposed information collection for the proper performance of the agency's functions, the accuracy of the estimated burden, ways to enhance the quality, utility and clarity of the information to be collected, and the use of automated collection techniques or other forms of information technology to minimize the information collection burden.

DATES: Comments must be received by February 17, 2026.

ADDRESSES: When commenting, please reference the applicable form number (CMS-10398 #45) and the OMB control number (0938-1148). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: CMS-10398 #_/OMB control number: 0938-1148, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRAListing.

FOR FURTHER INFORMATION CONTACT: William N. Parham at (410) 786-4669.

SUPPLEMENTARY INFORMATION: Following is a summary of the use and burden associated with the subject information collection(s). More detailed information can be found in the collection's supporting statement and associated materials (see ADDRESSES).

Generic Information Collections

1. Title of Information Collection: Certified Community Behavioral Health Clinic (CCBHC) 2024 State Proposal Demonstration Application; Type of Information Collection Request: Revision of an active collection of information request; Use: The State Proposal Demonstration Application is required to be completed by existing CCBHC grantee states and submitted to the Centers for Medicare & Medicaid Services (CMS) and the Substance Abuse and Mental Health Services Administration (SAMHSA) to determine state readiness and eligibility to the CCBHC demonstration and every two years thereafter. The awarding of Planning Grants to states was the first phase of a two-phase process. Phase II will consist of participation in the demonstration.

The information collection includes two components: (1) the CCBHC State Proposal Demonstration Application; (2) an application to add additional CCBHCs to existing state demonstration programs, providing updates to the information previously submitted in the state's original state application; and (3) Guidance for States Reporting Changes to their Demonstration Programs. The three component collections include many of the same types of information, however the State Proposal Demonstration Application has limited use to facilitate state eligibility and Federal selection to participate in the CCBHC demonstration. The application to add CCBHCs is ongoing and can be used by states annually once a clinic meets state certification and can later be added to the program at the start of a state's annual demonstration year. The guidance for states making changes to their Demonstration programs is also ongoing and used for states to inform (and in some cases seek approval from) SAMHSA for certain types of changes to the state's Demonstration.

In January 2026, the application was updated to adhere to Administration executive orders, add requirements for applicants to complete sample cost reports, plans to implement any criteria that are not rated “ready to implement,” and describe their rebasing methodology. Minor updates were also made to the Compliance Checklist and Guidance on Addition of CCBHCs to Existing State Demonstration Programs. CMS and SAMHSA also developed Guidance for State Reporting of Changes to the Demonstration Programs.

Form Number: CMS-10398 #45 (OMB control number: 0938-1148); Frequency: Annual, one time, and on occasion; Affected Public: State, Local, or Tribal Governments; Number of Respondents: 43; Total Annual Responses: 43; Total Annual Hours: 1,958. (For policy questions regarding this collection contact: Beverly Boston at 410-786-4186.)

William N. Parham, III,
Director, Division of Information Collections and Regulatory Impacts, Office of Strategic Operations and Regulatory Affairs.

[FR Doc. 2026-02187 Filed 2-2-26; 8:45 am]

BILLING CODE 4120-01-P